DEPARTMENT OF TRANSPORTATION

Federal Aviation Administration

14 CFR Part 39

[Docket No. FAA-2005-22812; Directorate Identifier 2005-NM-134-AD]

RIN 2120-AA64

Airworthiness Directives; Airbus Model A330 Airplanes and Model A340-200 and -300 Series Airplanes

AGENCY: Federal Aviation Administration (FAA), Department of Transportation (DOT).

ACTION: Supplemental notice of proposed rulemaking (NPRM); reopening of comment period.

SUMMARY: The FAA is revising an earlier NPRM for an airworthiness directive (AD) that applies to certain Airbus Model A330 airplanes and Model A340-200 and -300 series airplanes. The original NPRM would have required repetitive detailed inspections for cracking in the aft web of support rib 6 between certain bottom skin stringers on both wings; high frequency eddy current inspections for cracking of the attachment holes of the fuel pipes, and repair if necessary. The original NPRM also would have provided for an optional modification, which would extend a certain inspection threshold. The original NPRM resulted from a report of significant cracking found in the aft web of support rib 6 on both wings. This action revises the original NPRM by mandating, for certain airplanes, a new modification of support rib 6 on both wings, which would end the repetitive inspection requirement. This action also reduces the applicability in the original NPRM. We are proposing this supplemental NPRM to prevent cracking in the aft web of support rib 6, which could result in overloading of adjacent ribs and the surrounding wing structure and consequent reduced structural integrity of the wing.

DATES: We must receive comments on this supplemental NPRM by June 20, 2006.

ADDRESSES: Use one of the following addresses to submit comments on this supplemental NPRM.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for the service information identified in this proposed AD.

FOR FURTHER INFORMATION CONTACT: Tim Backman, Aerospace Engineer, International Branch, ANM-116, Transport Airplane Directorate, FAA, 1601 Lind Avenue, SW., Renton, Washington 98055-4056; telephone (425) 227-2797; fax (425) 227-1149.

SUPPLEMENTARY INFORMATION:

Comments Invited

We invite you to submit any relevant written data, views, or arguments regarding this supplemental NPRM. Send your comments to an address listed in the ADDRESSES section. Include the docket number “Docket No. FAA-2005-22812; Directorate Identifier 2005-NM-134-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this supplemental NPRM. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level in the Nassif Building at the DOT street address stated in ADDRESSES. Comments will be available in the AD docket shortly after the Docket Management System receives them.

Discussion

We proposed to amend 14 CFR part 39 with a notice of proposed rulemaking (NPRM) for an airworthiness directive (AD) (the “original NPRM”). The original NPRM applies to certain Airbus Model A330-200, A330-300, A340-200, and A340-300 series airplanes. The original NPRM was published in the Federal Register on October 27, 2005 (70 FR 61927). The original NPRM proposed to require repetitive detailed inspections for cracking in the aft web of support rib 6 between certain bottom skin stringers on both wings; high frequency eddy current inspections for cracking of the attachment holes of the fuel pipes, and repair if necessary. The original NPRM also proposed to provide for an optional modification, which would extend a certain inspection threshold.

The preamble to the original NPRM specified that we considered the requirements “interim action” and that the manufacturer was developing a modification to address the unsafe condition. The preamble also explained that we may consider further rulemaking if a modification is developed, approved, and available. The manufacturer now has developed such a modification, and we have determined that further rulemaking is indeed necessary; this supplemental NPRM follows from that determination.

New Relevant Service Information

Airbus has issued Service Bulletins A330-57-3085 (for Model A330 airplanes) and A340-57-4093 (for Model A340-200 and -300 series airplanes), both Revision 02, both dated September 29, 2005. Revision 02 is essentially the same as Revision 01 of the service bulletins, which were referenced in the original NPRM as the source of service information for accomplishing the inspections.

Airbus has also issued Service Bulletins A330-57-3087 (for Model A330 airplanes) and A340-57-4095 (for Model A340-200 and -300 series airplanes), both Revision 01, both dated September 22, 2005. Revision 01 is essentially the same as the original issue of the service bulletins, which were referenced in the original NPRM as the source of service information for accomplishing the optional modification.

Airbus has also issued Service Bulletins A330-57-3088 (for Model A330 airplanes) and A340-57-4096 (for Model A340-200 and -300 series airplanes), both dated September 21, 2005. The service bulletins provide procedures for a new modification of support rib 6 on both wings that eliminates the need for the repetitive inspections. The modification includes, among other things, installing a reinforcement plate and cold expanding the attachment holes for the outboard side of rib 6.

Comments

We have considered the following comments on the original NPRM.

Request To Add New French Airworthiness Directives/Service Bulletin

Airbus asks that French airworthiness directives F-2006-008 and F-2006-009, both dated January 4, 2006, be added to the supplemental NPRM. Airbus states that the French airworthiness directives mandate terminating action for the repetitive inspections specified in the original NPRM. F-2006-008 and F-2006-009 cancel the requirements in French airworthiness directives F-2005-071 and F-2005-072, both dated April 27, 2005 (referenced in the original NPRM).

Northwest Airlines asks that Airbus Service Bulletin A330-57-3088 be added to the supplemental NPRM as terminating action for the repetitive inspections specified in Airbus Service Bulletin A330-57-3085, Revision 02.

We agree with the commenters' requests. The Direction Générale de l'Aviation Civile (DGAC), which is the airworthiness authority for France, mandated the service information and issued French airworthiness directives F-2006-008 and F-2006-009, both dated January 4, 2006. French airworthiness directives F-2006-008 and F-2006-009, mandate a new modification of support rib 6 on both wings, and have been added to this supplemental NPRM. The French airworthiness directives require using Airbus Service Bulletins A330-57-3088 and A340-57-4096 (identified above) for accomplishing the modification. We have also added those service bulletins to this supplemental NPRM.

Request to Exclude Airplanes with Airbus Modification 53883

Northwest Airlines asks that airplanes on which Airbus Modification 53883 has been incorporated in production be excluded from the applicability specified in the original NPRM. The airline provides no justification for the request.

We agree to exclude the subject airplanes from the applicability section of the supplemental NPRM. French airworthiness directives F-2006-008 and F-2006-009 exclude those airplanes. Airbus Modification 53883 is the production version of the modification defined in Airbus Service Bulletins A330-57-3088 and A340-57-4096, which ends the repetitive inspections, as specified in paragraph (n) of the supplemental NPRM.

Request To Correct Typographical Error

Airbus notes that there is a typographical error in paragraph (h) of the original NPRM. Airbus states that paragraph (h) should specify paragraph (h)(3)(i) instead of (h)(3) for the third compliance paragraph. We do not agree; the “(i)” under paragraph (h)(3) is a new paragraph, not a subparagraph of paragraph (h)(3) as the commenter noted.

Request To Change Applicability

Airbus asks that Model A330-302 and -303 airplanes be added to the applicability specified in the original NPRM. We agree. Whereas Model A330-302 and -303 airplanes have not yet been type certificated, FAA approval of these models is in process. We have changed the applicability in this supplemental NPRM to more closely parallel the effectivity section of the French airworthiness directives; the revised reference to Model A330 airplanes includes Model A330-302 and -303 airplanes.

Explanation of Change to Costs of Compliance

After the original NPRM was issued, we reviewed the figures we have used over the past several years to calculate AD costs to operators. To account for various inflationary costs in the airline industry, we find it necessary to increase the labor rate used in these calculations from $65 per work hour to $80 per work hour. The cost impact information, below, reflects this increase in the specified hourly labor rate.

Explanation of Change to the Original NPRM

Paragraph (k) of the original NPRM specifies making repairs using a method approved by either the FAA or the Direction Gérale de l'Aviation Civile (or its delegated agent). The European Aviation Safety Agency (EASA) has assumed responsibility for the airplane models subject to this AD. Therefore, we have revised paragraph (k) of this supplemental NPRM to specify making repairs using a method approved by either the FAA or the EASA (or its delegated agent).

FAA's Determination and Proposed Requirements of the Supplemental NPRM

Certain changes discussed above expand the scope of the original NPRM; therefore, we have determined that it is necessary to reopen the comment period to provide additional opportunity for public comment on this supplemental NPRM.

Costs of Compliance

This supplemental NPRM would affect about 25 airplanes of U.S. registry.

The proposed inspections would take about 4 work hours per airplane, at an average labor rate of $80 per work hour. Based on these figures, the estimated cost of the proposed inspections for U.S. operators is $8,000, or $320 per airplane, per inspection cycle.

The proposed modification of support rib 6 on the left-hand wing would take about 38 work hours per airplane, at an average labor rate of $80 per work hour. Required parts would cost about $5,020 per airplane. Based on these figures, the estimated cost of this modification on the left-hand wing on U.S. operators is $201,500, or $8,060 per airplane.

The proposed modification of support rib 6 on the right-hand wing would take about 38 work hours per airplane, at an average labor rate of $80 per work hour. Required parts would cost about $5,020 per airplane. Based on these figures, the estimated cost of this modification on the right-hand wing on U.S. operators is $201,500, or $8,060 per airplane.

Authority for this Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

AIRBUS: Docket No. FAA-2005-22812; Directorate Identifier 2005-NM-134-AD.

Comments Due Date

(a) The FAA must receive comments on this AD action by June 20, 2006.

Affected ADs

(b) None.

Applicability

(c) This AD applies to Airbus Model A330 airplanes and Model A340-200 and -300 series airplanes, certificated in any category; on which Airbus Modification 41114 or 44599 was done during production; except those airplanes on which Airbus Modification 53883 was done during production.

Unsafe Condition

(d) This AD results from a report of significant cracking found in the aft web of support rib 6 on both wings. We are issuing this AD to prevent cracking in the aft web of support rib 6, which could result in overloading of adjacent ribs and the surrounding wing structure and consequent reduced structural integrity of the wing.

Compliance

(e) You are responsible for having the actions required by this AD performed within the compliance times specified, unless the actions have already been done.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Repetitive Inspections

(f) For Model A330 series airplanes on which Airbus Modification 53882 was not done during production: At the applicable time specified in paragraph (f)(1), (f)(2), or (f)(3) of this AD, perform a detailed inspection for cracking in the aft web of support rib 6 between bottom skin stringers 18 and 20 on both wings, and high frequency eddy current inspections for cracking of the attachment holes of the fuel pipe and fuel pipe mounting, by doing all the actions in accordance with the Accomplishment Instructions of Airbus Service Bulletin A330-57-3085, Revision 02, dated September 29, 2005. If no crack is found during the initial inspections, repeat the inspections thereafter at intervals not to exceed 8,000 flight cycles or 25,000 flight hours, whichever is first, until the terminating action specified in paragraph (n) of this AD is done. If any crack is found during any inspection, repair as specified in paragraph (k) of this AD, or before further flight do the terminating action specified in paragraph (n) of this AD.

(1) For airplanes that have accumulated 7,999 or fewer total flight cycles, and 24,999 or fewer total flight hours, as of the effective date of this AD: Do the inspections at the later of the times specified in paragraphs (f)(1)(i) and (f)(1)(ii) of this AD.

(i) Before the accumulation of 8,000 total flight cycles or 25,000 total flight hours, whichever is first.

(ii) Within 8 months after the effective date of this AD.

(2) For airplanes that have accumulated 8,000 or more total flight cycles, but fewer than 10,000 total flight cycles; or 25,000 or more total flight hours, but fewer than 30,000 total flight hours; as of the effective date of this AD: Do the inspections at the later of the times specified in paragraphs (f)(2)(i) and (f)(2)(ii) of this AD.

(i) Before the accumulation of 10,000 total flight cycles or 30,000 total flight hours, whichever is first.

(ii) Within 8 months after the effective date of this AD.

(3) For airplanes that have accumulated 10,000 or more total flight cycles or 30,000 or more total flight hours as of the effective date of this AD: Do the inspections within 3 months after the effective date of this AD.

(g) For Model A330 series airplanes on which Airbus Modification 53882 was done during production or on which Airbus Service Bulletin A330-57-3087, dated February 15, 2005, or Revision 01, dated September 22, 2005, has been done: Perform the applicable inspections required by paragraph (f) of this AD at the earliest of the initial inspection thresholds specified in Figure 4, Sheet 1, “Inspection Flow Chart” of Airbus Service Bulletin A330-57-3085, Revision 02, dated September 29, 2005; or within 6 months after the effective date of this AD, whichever is later. Repeat the inspections required by paragraph (f) of this AD at the time specified in paragraph (f) of this AD, until the terminating action specified in paragraph (n) of this AD is done.

(h) For Model A340 series airplanes on which Airbus Modification 53882 was not done during production: Perform the inspections required by paragraph (f) of this AD at the applicable time specified in paragraph (h)(1), (h)(2), or (h)(3) of this AD. Perform the inspections by doing all the actions accordance with the Accomplishment Instructions of Airbus Service Bulletin A340-57-4093, Revision 02, dated September 29, 2005. Repeat the inspections thereafter at intervals not to exceed 8,000 flight cycles or 30,200 flight hours, whichever is first, until the terminating action required by paragraph (n) of this AD is done.

(1) For airplanes that have accumulated 7,999 or fewer total flight cycles, and 30,199 or fewer total flight hours, as of the effective date of this AD: Do the inspections at the later of the times specified in paragraphs (h)(1)(i) and (h)(1)(ii) of this AD.

(i) Before the accumulation of 8,000 total flight cycles or 30,200 total flight hours, whichever is first.

(ii) Within 8 months after the effective date of this AD.

(2) For airplanes that have accumulated 8,000 or more total flight cycles, but fewer than 10,000 total flight cycles; or 30,200 or more total flight cycles, but fewer than 43,700 total flight hours, as of the effective date of this AD: Do the inspections at the later of the times specified in paragraphs (h)(2)(i) and (h)(2)(ii) of this AD.

(i) Before the accumulation of 10,000 total flight cycles or 43,700 total flight hours, whichever is first.

(ii) Within 8 months after the effective date of this AD.

(3) For airplanes that have accumulated 10,000 or more total flight cycles or 43,700 or more total flight hours as of the effective date of this AD: Do the inspections within 3 months after the effective date of this AD.

(i) For Model A340 series airplanes on which Airbus Modification 53882 was done during production or on which Airbus Service Bulletin A340-57-4095, dated February 15, 2005, or Revision 01, dated September 22, 2005, has been done: Perform the applicable inspections required by paragraph (f) of this AD at the earliest of the initial inspection thresholds specified in Figure 4, Sheet 1, “Inspection Flow Chart” of Airbus Service Bulletin A340-57-4093, Revision 02, dated September 29, 2005; or within 6 months after the effective date of this AD, whichever is later. Repeat the inspections required by paragraph (f) of this AD at the time specified in paragraph (h) of this AD, until the terminating action specified in paragraph (n) of this AD is done.

Inspections Accomplished According to Previous Issue of Service Bulletins

(j) Inspections accomplished before the effective date of this AD according to Airbus All Operator Telexes A330-57-3085 and A340-57-4093, both dated December 15, 2004; or Airbus Service Bulletins A330-57-3085 and A340-57-4093, both Revision 01, both dated March 25, 2005; are considered acceptable for compliance with the corresponding inspections specified in this AD.

Repair

(k) If any cracking is found during any inspection required by this AD: Before further flight, either repair and get a schedule for subsequent inspections, according to a method approved by either the Manager, International Branch, ANM-116, Transport Airplane Directorate, FAA; or the European Aviation Safety Agency (EASA) (or its delegated agent); or accomplish the terminating action specified in paragraph (n) of this AD.

Optional Modification

(l) Accomplishing the modification of the fuel pipe connector and the fastener holes of support rib 6 on both wings by doing all the actions specified in the Accomplishment Instructions of Airbus Service Bulletin A330-57-3087, or A340-57-4095, both dated February 15, 2005, or Revision 01, both dated September 22, 2005, as applicable, extends the interval for the next inspection to the applicable post-mod inspection threshold specified in Figure 4, Sheet 1, “Inspection Flow Chart” of Airbus Service Bulletins A330-57-3085 and A340-57-4093, both Revision 01, both dated March 25, 2005, as applicable. After accomplishing that inspection, repeat the applicable inspections required by paragraph (f) or (h) of this AD at the applicable repetitive inspection interval specified in Figure 4 of the Accomplishment Instructions of the service bulletin, until the terminating action specified in paragraph (n) of this AD is done.

Hard or Overweight Landing

(m) For Model A330 series airplanes with 8,000 or more total flight cycles or 25,000 or more total flight hours, and Model A340 series airplanes with 8,000 or more total flight cycles or 30,200 or more total flight hours that have not been modified in accordance with paragraph (j) of this AD: Before further flight after any hard or overweight landing of the airplane, accomplish the applicable follow-on inspections and any applicable corrective actions according to a method approved by either the Manager, International Branch, ANM-116; or the EASA (or its delegated agent). Accomplishing the inspections in Airbus A330/A340 Airplane Maintenance Manual, Chapter 05-51-11, dated April 1, 2005, titled “Inspection After Hard/Overweight Landing—Inspection/Check,” or Airbus Technical Disposition (TD) TD/J1/S3/00608/2005, dated April 26, 2005, titled “Inspections following hard landing, both wings,” is considered one approved method. Operators can obtain the TD from Airbus.

Terminating Modification

(n) For airplanes on which support rib 6 on both wings has not been repaired in accordance with paragraph (k) of this AD: Within 60 months after the effective date of this AD, modify the fuel pipe connector and the fastener holes of support rib 6 on both wings by doing all the actions specified in the Accomplishment Instructions of Airbus Service Bulletin A330-57-3088, or A340-57-4096, both dated September 21, 2005, as applicable. Accomplishing the modification in this paragraph ends the repetitive inspections required by this AD. Repair of support rib 6 on both wings before the effective date of this AD using repair drawing R572-57023 or R572-57026, as applicable, ends the repetitive inspections required by this AD.

Alternative Methods of Compliance (AMOCs)

(o)(1) The Manager, International Branch, ANM-116, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(p) French airworthiness directives F-2006-008 and F-2006-009, both dated January 4, 2006, also address the subject of this AD.

Issued in Renton, Washington, on May 17, 2006.
Kevin M. Mullin,
Acting Manager, Transport Airplane Directorate, Aircraft Certification Service.

[FR Doc. E6-8122 Filed 5-25-06; 8:45 am]

BILLING CODE 4910-13-P